DEPARTMENT OF COMMERCE

National Oceanic and Atmospheric Administration

[RTID 0648-XA307]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold joint public meeting of the Council and the Atlantic States Marine Fisheries Commission (ASMFC).

DATES: The meeting will be held Thursday, August 6, 2020. beginning at 8:30 a.m. and will conclude by 3:30 p.m. For agenda details, see SUPPLEMENTARY INFORMATION.

ADDRESSES: The meeting will be held via webinar. Webinar instructions and additional meeting details will be posted on the ASMFC's website at http://www.asmfc.org/home/2020-summer-meeting-webinar.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The proposed agenda is as follows, though time blocks are approximate based on the pace of discussion, and agenda items may be addressed out of order (changes will be noted on the Council's website when possible.)

Thursday August 6, 2020

Mid-Atlantic Fishery Management Council (MAFMC) and ASMFC Bluefish Management Board

Progress Update on Bluefish Allocation and Rebuilding Amendment

MAFMC and ASMFC Summer Flounder, Scup, and Black Sea Bass Management Board

Consider Black Sea Bass Commercial State Allocation Amendment/Draft Addendum XXXVIII for Public Comment, progress Update on Recreational Reform Initiative, and review and consider approval of Massachusetts 2020 Black Sea Bass Recreational Proposal (Board only).

Special Accommodations

These meetings are physically accessible to people with disabilities. Requests for sign language interpretation or other auxiliary aid should be directed to M. Jan Saunders, (302) 526-5251, at least 5 days prior to the meeting date.

Authority: 16 U.S.C. 1801 et seq.

Dated: July 20, 2020.
Diane M. DeJames-Daly,
Acting Deputy Director, Office of Sustainable Fisheries, National Marine Fisheries Service.

[FR Doc. 2020-16001 Filed 7-22-20; 8:45 am]

BILLING CODE 3510-22-P